DEPARTMENT OF LABOR

Employment and Training Administration

[TA-W-70,827]

Formtech Industries, LLC, Minerva Division, Minerva, OH; Notice of Revised Determination on Reconsideration

On January 21, 2010, the Department issued a Notice of Affirmative Determination Regarding Application for Reconsideration applicable to workers of Formtech Industries, LLC, Minerva Division, Minerva, Ohio. The Department's Notice was published in the Federal Register on February 16, 2010 (75 FR 7030).

During the reconsideration investigation, the Department investigated the allegations that imports of like or directly competitive articles had increased and that the subject firm supplied component parts (steel forgings) to several firms that employed worker groups that are eligible to apply for Trade Adjustment Assistance (TAA).

While the reconsideration investigation did not reveal increased imports of articles like or directly competitive with the steel forgings produced at the subject firm, the Department did confirm that the subject firm did supply component parts to several firms that employed worker groups that are eligible to apply for TAA, and that one of the firms employed a worker group that was eligible to apply for TAA during the relevant period.

Based on the information obtained during the reconsideration investigation, the Department has determined that the workers of the subject firm are eligible to apply for TAA as adversely affected secondary workers.

Conclusion

After careful review of the additional facts obtained during the reconsideration investigation, I determine that workers of FormTech Industries, LLC, Minerva Division, Minerva, Ohio, meet the worker group certification criteria under Section 222(c) of the Act, 19 U.S.C. 2272(c). In accordance with Section 223 of the Act, 19 U.S.C. 2273, I make the following certification:

“All workers of FormTech Industries, LLC, Minerva Division, Minerva, Ohio, who became totally or partially separated from employment on or after May 21, 2008, through two years from the date of this revised certification, and all workers in the group threatened with total or partial separation from employment on date of certification through two years from the date of certification, are eligible to apply for adjustment assistance under Chapter 2 of Title II of the Trade Act of 1974, as amended.”

Signed in Washington, DC, this 30th day of July 2010.
Del Min Amy Chen,
Certifying Officer, Division of Trade Adjustment Assistance.

[FR Doc. 2010-20025 Filed 8-12-10; 8:45 am]

BILLING CODE 4510-FN-P